DEPARTMENT OF HOMELAND SECURITY

Federal Emergency Management Agency

44 CFR Part 67

[Docket ID FEMA-2013-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Rockland County, New York (All Jurisdictions)
Docket No.: FEMA-B-1214
Demarest Kill | At the West Branch Hackensack River confluence | +98 | Town of Clarkstown.
| At the upstream side of Little Tor Road | +247
East Branch Hackensack River | At the upstream side of Old Mill Road | +88 | Town of Clarkstown.
| Approximately 600 feet downstream of Rockland Lake | +151 |
Golf Course Brook
| At the upstream side of Nottingham Drive | +326 | Village of Montebello.
| At the upstream side of Spook Rock Road | +492 |
Hackensack River | At the Town of Orangetown/Town of Clarkstown corporate limit | +58 | Town of Clarkstown, Town of Orangetown.
| At the downstream side of Old Mill Road | +66 |
Hudson River | At the Village of Upper Nyack/Village of Nyack corporate limit | +7 | Village of Upper Nyack.
| At the Village of Upper Nyack/Town of Clarkstown corporate limit | +7
Minisceongo Creek | At the upstream side of the dam (near Gagan Road) | +11 | Town of Haverstraw, Village of Haverstraw, Village of West Haverstraw.
| Approximately 1,000 feet upstream of Thiels Ivy Road | +349 |
Nauraushaun Brook | At the Hackensack River confluence | +57 | Town of Clarkstown, Town of Orangetown.
| Approximately 200 feet upstream of Smith Road | +297 |
North Branch Pascack Brook | At the Pascack Brook confluence | +351 | Town of Clarkstown, Town of Ramapo, Village of New Hempstead, Village of New Square, Village of Spring Valley.
| Approximately 250 feet upstream of Greenridge Way | +513 |
Pascack Brook | At the New Jersey state boundary | +207 | Town of Clarkstown, Town of Orangetown, Town of Ramapo, Village of Chestnut Ridge, Village of Kaser, Village of Spring Valley.
| At the downstream side of Grosser Lane | +578 |
Sparkill Creek | Approximately 350 feet downstream of Rock Road | +14 | Town of Orangetown, Village of Piermont.
| At the upstream side of Erie Street | +124 |
West Branch Hackensack River | At the upstream side of Ridge Road | +88 | Town of Clarkstown.
| At the Town of Ramapo corporate limit | +290 |
West Branch Saddle River | At the upstream side of the New Jersey state boundary | +325 | Town of Ramapo, Village of Airmont.
| Approximately 280 feet upstream of Olympia Lane | +530 |
* National Geodetic Vertical Datum.
+ North American Vertical Datum.
# Depth in feet above ground.
‸ Mean Sea Level, rounded to the nearest 0.1 meter.
ADDRESSES
Town of Clarkstown
Maps are available for inspection at the Clarkstown Town Hall, 10 Maple Avenue, New City, NY 10956.
Town of Haverstraw
Maps are available for inspection at the Haverstraw Town Hall, 1 Rosman Road, Garnerville, NY 10923.
Town of Orangetown
Maps are available for inspection at the Town of Orangetown Building Department, 20 Greenbush Road, Orangeburg, NY 10962.
Town of Ramapo
Maps are available for inspection at the Ramapo Town Hall, 237 State Route 59, Suffern, NY 10901.
Village of Airmont
Maps are available for inspection at the Village Hall, 251 Cherry Lane, Airmont, NY 10982.
Village of Chestnut Ridge
Maps are available for inspection at the Village Hall, 277 Old Nyack Turnpike, Chestnut Ridge, NY 10977.
Village of Haverstraw
Maps are available for inspection at the Village Hall, 40 New Main Street, Haverstraw, NY 10927.
Village of Kaser
Maps are available for inspection at the Kaser Village Hall, 15 Elyon Road, Monsey, NY 10952.
Village of Montebello
Maps are available for inspection at the Village Hall, 1 Montebello Road, Montebello, NY 10901.
Village of New Hempstead
Maps are available for inspection at the New Hempstead Village Hall, 108 Old Schoolhouse Road, New City, NY 10956.
Village of New Square
Maps are available for inspection at the Village Hall, 766 North Main Street, New Square, NY 10977.
Village of Piermont
Maps are available for inspection at the Village Hall, 478 Piermont Avenue, Piermont, NY 10968.
Village of Spring Valley
Maps are available for inspection at the Village Hall, 200 North Main Street, Spring Valley, NY 10977.
Village of Upper Nyack
Maps are available for inspection at the Village Hall, 328 North Broadway, Upper Nyack, NY 10960.
Village of West Haverstraw
Maps are available for inspection at the Village Hall, 130 Samsondale Avenue, West Haverstraw, NY 10993.
Sullivan County, Pennsylvania (All Jurisdictions)
Docket No.: FEMA-B-1233
Big Run | At the Muncy Creek confluence | +965 | Township of Davidson.
| Approximately 1,660 feet upstream of Fairman Road | +1153 |
Little Loyalsock Creek | Approximately 1,150 feet downstream of the Marsh Run confluence | +1432 | Borough of Dushore.
| Approximately 540 feet upstream of Main Street | +1458 |
Loyalsock Creek | Approximately 2.6 miles downstream of the Ogdonia Creek confluence | +780 | Borough of Forksville, Township of Elkland, Township of Forks, Township of Hillsgrove.
| At the Little Loyalsock Creek confluence | +1004 |
Muncy Creek | At the Muncy Creek Tributary 1 confluence | +783 | Township of Davidson, Township of Shrewsbury.
| Approximately 0.76 mile upstream of Pecks Road | +988 |
* National Geodetic Vertical Datum.
+ North American Vertical Datum.
# Depth in feet above ground.
‸ Mean Sea Level, rounded to the nearest 0.1 meter.
ADDRESSES
Borough of Dushore
Maps are available for inspection at the Municipal Building, 216 Julia Street, Dushore, PA 18614.
Borough of Forksville
Maps are available for inspection at Sullivan County Planning and Community Development, 245 Muncy Street, Suite 110, Laporte, PA 18626.
Township of Davidson
Maps are available for inspection at the Davidson Township Municipal Building, 20 Michelle Road, Muncy Valley, PA 17758.
Township of Elkland
Maps are available for inspection at the Elkland Township Municipal Office Building, 909 Kobbe Road, Forksville, PA 18616.
Township of Forks
Maps are available for inspection at the Forks Township Hall, 627 Molyneux Hill Road, Dushore, PA 18614.
Township of Hillsgrove
Maps are available for inspection at the Township Hall, 2232 Route 87, Hillsgrove, PA 18619.
Township of Shrewsbury
Maps are available for inspection at the Shrewsbury Township Building, 1793 Edkin Hill Road, Muncy Valley, PA 17758.

(Catalog of Federal Domestic Assistance No. 97.022, “Flood Insurance.”)

Dated: December 18, 2013.
Roy E. Wright,
Deputy Associate Administrator for Mitigation, Department of Homeland Security, Federal Emergency Management Agency.

[FR Doc. 2014-01375 Filed 1-23-14; 8:45 am]

BILLING CODE 9110-12-P